DEPARTMENT OF AGRICULTURE

Submission for OMB Review; Comment Request

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by April 15, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Office of the Assistant Secretary for Civil Rights

Title: USDA Race, Ethnicity and Gender Data Collection.

OMB Control Number: 0503-0019.

Summary of Collection: This data collection is necessary to implement sections 14006 and 14007 of the Food, Conservation, and Energy Act of 2008, 7 U.S.C. 8701 (hereafter referred to as the 2008 Farm Bill). Section 14006 of the 2008 Farm Bill establishes a requirement for the Department of Agriculture (USDA) to annually compile application and participation rate data regarding socially disadvantaged farmers or ranchers by computing for each program of the USDA that serves agriculture producers and landowners (a) raw numbers of applicants and participants by race, ethnicity, and gender (REG), subject to appropriate privacy protections, as determined by the Secretary; and (b) the application and participation rate, by race, ethnicity and gender, as a percentage of the total participation rate of all agricultural producers and landowners for each county and State in the United States. Pursuant to the authority in section 14006, the agencies of the Department of Agriculture are to collect the data and transmit it to the Secretary of Agriculture. Section 14007 requires the Department of Agriculture use the data collected in the conduct of oversight and evaluation of civil rights compliance.

Need and Use of the Information: Data will continue to be collected on a voluntary basis from customers at the application stage. The Natural Resources Conservation Service (NRCS) and Farm Service Agency (FSA) will continue to use a voluntary data collection form attached as a cover page to the application forms for programs that provide services to agriculture producers, farmers and ranchers. The Rural Development (RD) Mission Area currently collects customer declared REG data. The RD Agencies will continue to use its current process to collect REG data for applicants and participants. RD agencies will modify its check-list form to collect data on whether an applicant or participant is a farmer or rancher (to conform with the requirements of the Farm Bill), which will cause minimum burden. The agencies will enter the information from the forms into their electronic data systems.

Description of Respondents: Business or other for-profit; farms; Federal Government; State, local or Tribal government.

Number of Respondents: 2,011,250.

Frequency of Responses: Reporting: semi-Annually; annually.

Total Burden Hours: 67,041.

Levi S. Harrell,
Departmental Information Collection Clearance Officer.

[FR Doc. 2024-05559 Filed 3-14-24; 8:45 am]

BILLING CODE 3410-9R-P